DEPARTMENT OF ENERGY

Federal Energy Regulatory Commission

Combined Notice of Filings

February 13, 2009.

Take notice that the Commission has received the following Natural Gas Pipeline Rate and Refund Report filings:

Docket Numbers: RP09-232-001.

Applicants: Northern Natural Gas Company.

Description: Northern Natural Gas Company submits Eighth Revised Sheet 403A et al. to its FERC Gas Tariff, Fifth Revised Volume 1, to be effective 2/21/09.

Filed Date: 02/03/2009.

Accession Number: 20090204-0049.

Comment Date: 5 p.m. Eastern Time on Wednesday, February 18, 2009.

Docket Numbers: RP09-338-001.

Applicants: Portland Natural Gas Transmission System.

Description: Portland Natural Gas Transmission System submits First Revised Sheet 343 et al. to FERC Gas Tariff, Second Revised Volume 1 for compliance with Commission Order 712.

Filed Date: 02/12/2009.

Accession Number: 20090213-0163.

Comment Date: 5 p.m. Eastern Time on Friday, February 20, 2009.

Docket Numbers: RP09-283-001.

Applicants: Iroquois Gas Transmission System, L.P.

Description: Iroquois Gas Transmission System, LP submits Seventh Revised Sheet 50B to FERC Gas Tariff, First Revised Volume 1.

Filed Date: 02/11/2009.

Accession Number: 20090212-0055.

Comment Date: 5 p.m. Eastern Time on Monday, February 23, 2009.

Docket Numbers: RP09-294-001.

Applicants: Columbia Gas Transmission, LLC.

Description: Columbia Gas Transmission, LLC submits Eighth Revised Sheet 351 to FERC Gas Tariff, Second Revised Volume 1.

Filed Date: 02/11/2009.

Accession Number: 20090212-0261.

Comment Date: 5 p.m. Eastern Time on Monday, February 23, 2009.

Docket Numbers: RP09-358-000.

Applicants: Dominion South Pipeline Company, LP.

Description: Dominion South Pipeline Company, LP submits for filing 1st Revised Sheet 1000 et al. for inclusion in FERC Gas Tariff, Original Volume 1, with a proposed effective date of 3/12/09.

Filed Date: 02/11/2009.

Accession Number: 20090212-0271.

Comment Date: 5 p.m. Eastern Time on Monday, February 23, 2009.

Docket Numbers: RP09-359-000.

Applicants: Dominion Cove Point LNG, LP.

Description: Dominion Cove Point LNG, LP submits for filing 8th Revised Sheet 200 et al. for inclusion in FERC Gas Tariff, Original Volume 1, with a proposed effective date of 3/12/09.

Filed Date: 02/11/2009.

Accession Number: 20090212-0270.

Comment Date: 5 p.m. Eastern Time on Monday, February 23, 2009.

Docket Numbers: RP09-360-000.

Applicants: Dominion Transmission, Inc.

Description: Dominion Transmission, Inc submits for filing 17th Revised Sheet 1000 et al. to FERC Gas Tariff, Third Revised Volume 1, with a proposed effective date 3/12/09.

Filed Date: 02/11/2009.

Accession Number: 20090212-0269.

Comment Date: 5 p.m. Eastern Time on Monday, February 23, 2009.

Docket Numbers: RP09-361-000.

Applicants: Columbia Gas Transmission, LLC.

Description: Columbia Gas Transmission submits First Revised Sheet 25C to Second Revised Volume 1 under RP09-361, with a proposed effective date of 4/1/09.

Filed Date: 02/11/2009.

Accession Number: 20090212-0268.

Comment Date: 5 p.m. Eastern Time on Monday, February 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary. CNFGAS02132009

[FR Doc. E9-3634 Filed 2-19-09; 8:45 am]

BILLING CODE 6717-01-P